DEPARTMENT OF HEALTH AND HUMAN SERVICES

Administration for Children and Families

Administration on Developmental Disabilities; Family Support Initiative 2005

Announcement Type: Initial.

Funding Opportunity Number: HHS-2005-ACF-ADD-DF-0020.

CFDA Number: 93.631.

Due Date for Applications: Application is due August 15, 2005.

Executive Summary: Objectives: To provide funds to States to create or expand statewide systems change for Family Support. To allow for the award of competitive grants to conduct training, technical assistance, and other activities designed to address the problems that impede the self-sufficiency of individuals with developmental disabilities and families of children with developmental disabilities. This program announcement will provide funds for the development phase of the Family Support Initiative. This is the last program announcement related to statewide systems change begun in 1999. This is not a funding opportunity related to Family Support 360. Eligible States and territorial entities under this announcement are: Alabama, Iowa, California and Puerto Rico. States and territories not listed above are not eligible to apply.

I. Funding Opportunity Description

Statutory Authority Covered Under This Announcement

This announcement is covered under the Developmental Disabilities Assistance and Bill of Rights Act of 2000 (DD Act of 2000), (42 U.S.C. 15001-15115). Projects of National Significance is Subtitle E of the Developmental Disabilities Assistance and Bill of Rights Act of 2000, (42 U.S.C. 15081-15083). Provisions under this section provide for the award of grants, contracts, or cooperative agreements for Projects of National Significance that support:

• The development of national and State policies that reinforce and promote the self-determination, independence, productivity, integration, and inclusion in all facets of community life of individuals with developmental disabilities.

• Family support activities, data collection and analysis, technical assistance to entities that provide family support and data collection activities; and

• Other projects of sufficient size and scope that hold promise to expand or improve opportunities for individuals with developmental disabilities.

General Description

The Administration on Developmental Disabilities (ADD) is located within the Administration for Children and Families (ACF), Department of Health and Human Services (DHHS). ADD shares goals with other ACF programs that promote the economic and social well-being of families, children, individuals, and communities. ACF and ADD envision:

• Families and individuals empowered to increase their own economic independence and productivity;

• Strong, healthy, supportive communities having a positive impact on the quality of life and the development of children;

• Partnerships with individuals, front-line service providers, communities, States, and Congress that enable solutions that transcend traditional agency boundaries;

• Services planned and integrated to improve access to programs and supports for individuals and families;

• A recognition of the power and effectiveness of public private partnerships, including collaboration among community groups, such as faith-based organizations, families, and public agencies; and

• A community-based approach that recognizes and expands on the resources and benefits of diversity.

These goals will enable individuals, including people with developmental disabilities, to live productive and independent lives integrated into their communities. The Projects of National Significance (PNS) program is one means through which ADD promotes the achievement of these goals.

ADD is the lead agency within ACF and DHHS responsible for planning and administering programs to promote self-sufficiency and protect the rights of persons with developmental disabilities. ADD implements the Developmental Disabilities Assistance and Bill of Rights Act (the DD Act), which was authorized by Congress in 2000.

This Act supports and provides assistance to States, public, private non-profit agencies, and organizations, including faith-based organizations, to assure that individuals with developmental disabilities and their families participate in the design of and have access to culturally competent services, supports, and other assistance and opportunities that promote independence, productivity, integration, and inclusion into the community.

As defined in the DD Act, the term “developmental disabilities” means a severe, chronic disability of an individual that is attributable to a mental or physical impairment or combination of mental and physical impairments that is manifested before the individual attains age 22 and is likely to continue indefinitely. Developmental disabilities results in substantial limitations in three or more of the following functional areas: self-care; receptive and expressive language, learning, mobility, self-direction, capacity for independent living, and capacity for economic self-sufficiency.

A number of significant findings are identified in the DD Act, including:

• Disability is a natural part of the human experience that does not diminish the right of individuals with developmental disabilities to enjoy the opportunity for independence, productivity, integration, and inclusion into the community;

• Individuals whose disabilities occur during their developmental period frequently have severe disabilities that are likely to continue indefinitely; and

• Individuals with developmental disabilities often require lifelong specialized services and assistance, provided in a coordinated and culturally competent manner by many agencies, professionals, advocates, community representatives and others to eliminate barriers and to meet the needs of such individuals and their families.

The DD Act also promotes the best practices and policies presented below:

• Individuals with developmental disabilities, including those with the most severe developmental disabilities, are capable of achieving independence, productivity, integration, and inclusion into the community, and often require the provision of services, supports, and other assistance to achieve such;

• Individuals with developmental disabilities have competencies, capabilities, and personal goals that should be recognized, supported, and encouraged, and any assistance to such individuals should be provided in an individualized manner, consistent with the unique strengths, resources, priorities, concerns, abilities, and capabilities of the individual; and

• Individuals with developmental disabilities and their families are the primary decision makers regarding the services and support such individuals and their families receive, and play decision-making roles in policies and programs that affect the lives of such individuals and their families.

Towards these ends, ADD seeks to support and accomplish the following:

• Enhance the capabilities of families in assisting individuals with developmental disabilities to achieve their maximum potential;

• Support the increasing ability of individuals with developmental disabilities to exercise greater choice and self-determination and to engage in leadership activities in their communities; and

• Ensure the protection of individuals with developmental disabilities' legal and human rights.

The four grant programs funded under the Act are:

• State Developmental Disabilities Councils;

• State Protection and Advocacy Systems for Individuals with Developmental Disabilities' Rights;

• Grants to the National Network of University Centers for Excellence in Developmental Disabilities, Education, Research, and Service; and

• Grants for Projects of National Significance.

Priority Area 1

Family Support Program

1. Description of the Family Support Program

The purpose of the family support program is for States to create or expand statewide systems change. It allows for the award of competitive grants to conduct training, technical assistance, and other national activities designed to address the problems that impede the self-sufficiency of families of children with developmental disabilities.

2. Requirements

Project funds must be used to support the development of family support activities contributing to the self-determination, independence, productivity, and integration and inclusion in all facets of community life of such individuals. Projects will:

(1) Ensure the full participation, choice and control of families of children with developmental disabilities, in decisions related to the provision of such family support for their family;

(2) Ensure the active involvement of families of children with developmental disabilities in the planning, development, implementation, and evaluation of the project; increase the availability of, funding for, access to, and provision of family support for families of children with developmental disabilities;

(3) Promote training activities that are family-centered and family-directed and that enhance the ability of family members of children with developmental disabilities to increase participation, choice, and control in the provision of family support for families of children with developmental disabilities;

(4) Increase and promote interagency coordination among State agencies, and between State agencies and private entities that are involved in these projects; and

(5) Increase the awareness of laws, regulations, policies, practices, procedures, and organizational structures that facilitate or impede the availability or provision of family support for families of children with developmental disabilities.

3. Minimum Requirements for Project Design

ADD requires grant funds to be used to support the development of State policies that reinforce and promote (with the support of families, guardians, advocates, and communities of individuals with developmental disabilities) the self-determination, independence, productivity and integration and inclusion in all facets of community life of such individuals through family support activities. Project activities should accomplish any of the following:

• Establishment of a State Policy Council of families of children with developmental disabilities, or utilization of an existing council which will advise and assist the lead entity in the performance of activities under the project. The State Policy Council shall be composed of a majority of participants who are family members of children with developmental disabilities, or who are youth with developmental disabilities (ages 18-21), or qualify under both categories;

• Training and technical assistance for family members, service providers, community members, professionals, members of the Policy Council, State agency staff, students and others;

• Interagency coordination of Federal and State policies, resources, and services; establishment of interagency workgroups to enhance public funding options and coordination; and other interagency activities that promote coordination;

• Outreach to locate families who are eligible for family support and to identify groups who are underserved and unserved;

• Policy studies that relate to the development and implementation, or expansions and enhancement, of a statewide system of family support for families of children with developmental disabilities;

• Hearings and forums to solicit input from families of children with developmental disabilities, regarding family support programs, policies, and plans for such families;

• Public awareness and education to families of children with developmental disabilities, parent groups and organizations, public and private agencies, students, policymakers, and the general public;

• Needs assessment;

• Analysis of statewide system of family support for families of children with developmental disabilities;

• Development plans must include innovative partnerships with community organizations to increase the utilization of generic services by families of children with developmental disabilities;

• Pilot demonstration projects to demonstrate new approaches to the provision of family support for families of children with developmental disabilities that include family strengthening services such as parenting education and marriage education.

ADD expects to fund applications that include or incorporate into these activities one or more of the following populations relevant to their State: (1) Unserved and underserved populations that include populations such as individuals from racial and ethnic minority backgrounds, economically disadvantaged individuals, individuals with limited-English proficiency, and individuals from underserved geographic areas (rural or urban); (2) aging families of adult children with developmental disabilities, who are over age 21 with a focus on assisting those families, and their adult children, to be included as self-determining members of their communities; (3) foster/adoptive families of children with developmental disabilities; (4) families participating in the State's Temporary Assistance for Needy Families Program (TANF), welfare-to-work, and/or SSI program; (5) veterans with families having a child with a developmental disability; (6) parents with developmental disabilities (especially cognitive disabilities) who have children with or without disabilities; and (7) families of children with developmental disabilities who have behavioral/emotional issues.

ADD intends to fund those applications that describe how the project will:

• Ensure consumer/self-advocate orientation and participation;

• Include key project personnel with direct life experience living with a developmental disability;

• Have strong advisory components that consist of a majority of individuals with developmental disabilities and a structure where individuals with developmental disabilities make real decisions that determine the outcome of the grant;

• If the project includes research, reflect the principles of participatory action;

• Consider cultural competency (“cultural competency” as defined in the DD Act means services, supports, or other assistance that is conducted or provided in a manner that is responsive to the beliefs, interpersonal styles, attitudes, language, and behavior of individuals who are receiving the services, supports or other assistance, and in a manner that has the greatest likelihood of ensuring their maximum participation in the program involved);

• Allow individuals with developmental disabilities and their families to be involved in all aspects of the design, implementation, and evaluation of the project;

• Attend to unserved and underserved individuals, who have developmental disabilities (from mild to severe), and who are from multicultural backgrounds, rural and inner-city areas, and migrant, homeless, and refugee families;

• Comply with the Americans with Disabilities Act, if applicable, and Section 504 of the Rehabilitation Act of 1973 as amended by the Rehabilitation Act Amendments of 1998 (Pub. L. 105-220);

• Use collaboration through partnerships and coalitions;

• Develop the capacity to communicate and disseminate information and technical assistance through E-mail and other effective, affordable, and accessible forms of electronic communication that are Section 508 compliant.

• Develop and establish system change activities beyond the project period; and

• Disseminate models, products, best practices, and strategies for distribution between networks and beyond.

Applications must also include provisions for the travel of a key staff person during the project period for one (1) trip to Washington, DC.

This will be the final program announcement from ADD to solicit applicants for Federal funding for the Family Support Initiative Program that was begun in 1999. This final program announcement notice does not apply to future Family Support 360 initiative announcements.

II. Award Information

Funding Instrument Type: Grant.

Anticipated Total Priority Area Funding: $350,000.

Anticipated Number of Awards: 1 to 4.

Ceiling on Amount of Individual Awards: $100,000 per project period.

Floor on Amount of Individual Awards: $50,000 per project period.

Average Projected Award Amount: $100,000 per project period.

Length of Project Periods: 17 month project and budget period.

Maximum awards to States will be $100,000. Maximum awards to Territories will be $50,000.

Therefore, application request levels must not exceed the ceiling amount of $100,000 in Federal funds for a State entity and $50,000 in Federal funds for a Territorial entity.

III. Eligibility Information

1. Eligible Applicants

• Unrestricted (i.e., open to any type of entity subject to exceptions specified in Additional Information on Eligibility)

• State governments

• County governments

• City or township governments

• Special district governments

• Independent school districts

• State controlled institutions of higher education

• Native American tribal governments (Federally recognized)

• Native American tribal organizations (other than Federally recognized tribal governments)

• Public Housing authorities/Indian housing authorities

• Non-profits having a 501(c)(3) status with the IRS, other than institutions of higher education

• Non-profits that do not have a 501(c)(3) status with the IRS, other than institutions of higher education

• Private institutions of higher education

Additional Information on Eligibility: Eligible States and Territorial entities under this announcement are: Alabama, Iowa, California and Puerto Rico. States and Territories not listed above are not eligible to apply.

A letter from the office of the governor or the chief executive officer designating the applicant as the lead agency for the State or Territory must accompany the application. This lead agency is responsible for coordinating the planning, development, implementation (or expansion and enhancement), and evaluation of a statewide system of family support services for families of children with developmental disabilities.

Applicants include public and private non-profit organizations, which may include faith-based and community organizations, and private and State controlled institutions of higher education that are designated by the governor or chief executive officer of the State as the lead agency for this project.

All applications developed jointly by more than one agency or organization must identify only one organization as the lead organization and the official applicant. The other participating agencies and organizations can be included as co-participants, sub-grantees, or subcontractors.

Only those entities that are designated by the State as lead applicants and who have not previously been awarded family support development grants are eligible under this announcement.

2. Cost Sharing/Matching

Yes.

Grantees are required to meet a non-Federal share of the project costs. Grantees must provide at least 25% of the total approved cost of the project. The total approved cost of the project is the sum of the ACF share and the non-Federal share. The non-Federal share may be met by cash or in-kind contributions, although applicants are encouraged to meet their match requirements through cash contributions. For example, in order to meet the match requirements, a project with a total approved cost of $133,333, requesting $100,000 in ACF funds, must provide a non-Federal share of at least $33,333 (25% of total approved project cost of $133,333.) Grantees will be held accountable for commitments of non-Federal resources even if over the amount of the required match. Failure to provide the amount will result in disallowance of Federal funds. Lack of supporting documentation at the time of application will not impact the responsiveness of the application for competitive review.

3. Other

All applicants must have a Dun & Bradstreet number. On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Non-profit organizations applying for funding are required to submit proof of their non-profit status.

Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earning accrue to any private shareholders or individuals.

• A certified copy of the organization's certificate of incorporation or similar document that clearly establishes non-profit status.

• Any of the items in the subparagraphs immediately above for a State or national parent organization and a statement signed by the parent organization that the applicant organization is a local non-profit affiliate.

When applying electronically we strongly suggest you attach your proof of non-profit status with your electronic application.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Disqualification Factors

Applications that exceed the ceiling amount will be considered non-responsive and will not be considered for funding under this announcement.

Any application that fails to satisfy the deadline requirements referenced in Section IV.3 will be considered non-responsive and will not be considered for funding under this announcement.

IV. Application and Submission Information

1. Address to Request Application Package

Joan Rucker, Program Specialist, Office of Operations and Discretionary Grants, Administration on Developmental Disabilities, Administration for Children and Families, Mail Stop: HHH-405-D, 370 L'Enfant Promenade, SW., Washington, DC 20447. Phone: 202-690-7898. Fax: 202-205-8037. E-mail: jrucker@acf.hhs.gov.

2. Content and Form of Application Submission

A letter from the office of the governor or the chief executive officer designating the applicant as the lead agency for the State or Territory must accompany the application. This lead agency is responsible for coordinating the planning, development, implementation (or expansion and enhancement), and evaluation of a statewide system of family support services for families of children with developmental disabilities. State designated applicants include public and private non-profit organizations, which may include faith-based and community organizations, and private and State controlled institutions of higher education designated by the governor or chief executive officer of the State as the lead agency for this project. The letter must contain an original signature of the governor's office and accurately specify the name of the designated organization as stated on the front of the grant application Standard Form 424.

Each application package must include an original and two copies of the complete application.

Each copy should be stapled securely (front and back if necessary) in the upper left-hand corner. All pages of the narrative (including charts, tables, maps, exhibits, etc.) must be sequentially numbered, beginning with page one. In order to facilitate handling, please do not use covers, binders or tabs. Do not include extraneous materials as attachments, such as agency promotion brochures, slides, tapes, film clips, minutes of meetings, survey instruments or articles of incorporation.

The narrative should be typed double spaced on a single side of an 8½ x 11″ plain white paper, with 1″ margins on all sides, using black print no smaller than 12 pitch or 12 point size. All pages of the narrative, including attachments (such as charts, references/footnotes, tables, maps, exhibits, etc.) and letters of support must be sequentially numbered, beginning with “Objectives and Need for Assistance” as page number one. Applicants should not submit reproductions of larger size paper, reduced to meet the size requirement.

The length of the application, including all attachments and required Federal forms, must not exceed 60 pages. The Federally required forms will be counted towards the total number of pages. The 60-page limit will be strictly enforced. All pages beyond the first 60 pages of text will be removed prior to applications being evaluated by the reviewers. A page is a single side of an 8½ x 11″ sheet of paper with 1″ margins.

Applicants are requested not to send pamphlets, brochure or other printed material along with their application as these pose copying difficulties. These materials, if submitted, will not be included in the review process if they exceed the 60-page limit. Each page of the application will be counted to determine the total length.

Applicants have the option of omitting the Social Security Numbers and specific salary rates of the proposed projects from the two copies submitted with the original application to ACF. For purposes of the outside review process, applicants may elect to summarize salary information on the copies of their application. All salary information must, however, appear on the signed original application for ACF.

You may submit your application to us in either electronic or paper format.

To submit an application electronically, please use the http://www.Grants.gov/Apply site. If you use Grants.gov, you will be able to download a copy of the application package, complete it off-line, and then upload and submit the application via the Grants.gov site. ACF will not accept grant applications via email or facsimile transmission.

Please note the following if you plan to submit your application electronically via Grants.gov:

• Electronic submission is voluntary, but strongly encouraged.

• When you enter the Grants.gov site, you will find information about submitting an application electronically through the site, as well as the hours of operation. We strongly recommend that you do not wait until the application deadline date to begin the application process through Grants.gov.

• We recommend you visit Grants.gov at least 30 days prior to filing your application to fully understand the process and requirements. We encourage applicants who submit electronically to submit well before the closing date and time so that if difficulties are encountered an applicant can still send in a hard copy overnight. If you encounter difficulties, please contact the Grants.gov Help Desk at 1-800-518-4276 to report the problem and obtain assistance with the system.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on www.Grants.gov

• You must search for the downloadable application package by the CFDA number.

An original and two copies of the complete application are required. The original and each of the two copies must include all required forms, certifications, assurances, and appendices, be signed by an authorized representative, have original signatures, and be submitted unbound.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Standard Forms and Certifications: The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications. Applicants must sign and return the certification with their application.

Applicants must also understand they will be held accountable for the smoking prohibition included within Pub. L. 103-227, Title XII Environmental Tobacco Smoke (also known as the PRO-KIDS Act of 1994). A copy of the Federal Register notice which implements the smoking prohibition is included with the forms. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Those organizations required to provide proof of non-profit status, please refer to Section III.3.

Please see Section V.1, for instructions on preparing the full project description.

3. Submission Dates and Times

Application Due Date: Applications are due August 15, 2005.

Explanation of Due Dates: The closing time and date for receipt of applications is referenced above. Applications received after 4:30 p.m. eastern time on the closing date will be classified as late.

Deadline: Applications shall be considered as meeting an announced deadline if they are received on or before the deadline time and date referenced in Section IV.6. Applicants are responsible for ensuring applications are mailed or submitted electronically well in advance of the application due date.

Applications hand carried by applicants, applicant couriers, other representatives of the applicant, or by overnight/express mail couriers shall be considered as meeting an announced deadline if they are received on or before the deadline date, between the hours of 8 a.m. and 4:30 p.m., eastern time, at the address referenced in Section IV.6., between Monday and Friday (excluding Federal holidays).

ACF cannot accommodate transmission of applications by facsimile. Therefore, applications transmitted to ACF by fax will not be accepted regardless of date or time of submission and time of receipt.

Late Applications: Applications that do not meet the criteria above are considered late applications. ACF shall notify each late applicant that its application will not be considered in the current competition.

Any application received after 4:30 p.m. eastern time on the deadline date will not be considered for competition.

Applicants using express/overnight mail services should allow two working days prior to the deadline date for receipt of applications. Applicants are cautioned that express/overnight mail services do not always deliver as agreed.

Extension of deadlines: ACF may extend application deadlines when circumstances such as acts of God (floods, hurricanes, etc.) occur, or when there are widespread disruptions of mail service, or in other rare cases. A determination to extend or waive deadline requirements rests with the Chief Grants Management Officer.

Receipt acknowledgement for application packages will not be provided to applicants who submit their package via mail, courier services, or by hand delivery. Applicants will receive an electronic acknowledgement for applications that are submitted via http://www.Grants.gov.

Checklist: You may use the checklist below as a guide when preparing your application package.

What to submit | Required content | Required form or format | When to submit
Table of Contents | See Section V | Found in Section V | By application due date.
Project Abstract | See Sections IV.2 and V | Found in Sections IV.2 and V | By application due date.
Project Description | See Sections IV.2 and V | Found in Sections IV.2 and V | By application due date.
Budget Narrative/Justification | See Sections IV.2 and V | Found in Sections IV.2 and V | By application due date.
SF-424 | See Section IV.2 | See http://www.acf.hhs.gov/programs/ofs/forms.htm | By application due date.
SF-LLL Certification Regarding Lobbying | See Section IV.2 | See http://www.acf.hhs.gov/programs/ofs/forms.htm | By date of award.
Certification Regarding Environmental Tobacco Smoke | See Section IV.2 | See http://www.acf.hhs.gov/programs/ofs/forms.htm | By date of award.
SF-424A | See Section IV.2 | See http://www.acf.hhs.gov/programs/ofs/forms.htm | By application due date.
Support Letters | See Section V | Found in Section V | By application due date.
SF424B | See Section IV.2 | See http://www.acf.hhs.gov/programs/ofs/forms.htm | By application due date.
Designation Letter | See Section III.1 | Letter from the Governor in the applicant's State or Territory designating the applicant as the lead agency as required by this Program Announcement. Found in Section III.1. Found in Sections III.1. and IV.2 | By application due date.
Third Party Agreements | See Section V | Found in Section V | By application due date.
Dissemination Plan | See Section V | Found in Section V | By application due date.
Non-Federal Resources | See Sections III.2. and V | Found in Sections III.2. and V | By application due date.
Plan for Project Continuation | See Section V | Found in Section V | By application due date.
Empowerment Zones/Enterprise Communities Partnership | See Section V | Found in Section V | By application due date.
Assurances | See Section IV.2 |  |
Proof of Non-Profit Status | See Section III.3 | Found in Section III.3 | By date of award.
Indirect Cost Rate Agreement | See Section V | Found in Section V | By date of award.

Additional Forms: Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

What to submit | Required content | Location | When to submit
Survey for Private, Non-Profit Grant Applicants | See form. | Found in http://www.acf.hhs.gov/programs/ofs/forms.htm | By application due date.

4. Intergovernmental Review

State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a.

Under 45 CFR 100.8(a)(2), a SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade, SW., 4th floor, Washington, DC 20447.

Although the remaining jurisdictions have chosen not to participate in the process, entities that meet the eligibility requirements of the program are still eligible to apply for a grant even if a State, Territory, Commonwealth, etc. does not have a SPOC. Therefore, applicants from these jurisdictions, or for projects administered by Federally-recognized Indian Tribes, need take no action in regard to E.O. 12372.

The official list, including addresses, of the jurisdictions that have elected to participate in E.O. 12372 can be found on the following URL: http://www.whitehouse.gov/omb/grants/spoc.html.

5. Funding Restrictions

Grant awards will not allow reimbursement of pre-award costs.

Costs associated with foreign travel or for construction activity are not allowable charges to the program grant.

Applications must also include provisions for the travel of a key staff person during the project period for one (1) trip to Washington, DC.

6. Other Submission Requirements

Submission by Mail: An applicant must provide an original application with all attachments, signed by an authorized representative and two copies. Please see Section IV.3 for an explanation of due dates. Applications should be mailed to: Tim Chappelle, Grants Officer, U.S. Department of Health and Human Services, Administration for Children and Families, Office of Grants Management, 370 L'Enfant Promenade, SW., Mail Stop: 8th Floor West, Washington, DC 20442.

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to: Tim Chappelle, Grants Officer, U.S. Department of Health and Human Service, Administration for Children and Families, Office of Grants Management, 901 D Street, SW., ACF Mailroom, 2nd Floor (near loading dock) Aerospace Center, Washington, DC 20024.

Electronic Submission: http://www.Grants.gov. Please see Section IV.2 for guidelines and requirements when submitting applications electronically.

V. Application Review Information

The Paperwork Reduction Act of 1995 (Pub. L. 104-13)

Public reporting burden for this collection of information is estimated to average 40 hours per response, including the time for reviewing instructions, gathering and maintaining the data needed and reviewing the collection information.

The project description is approved under OMB control number 0970-0139 which expires 4/30/2007.

An agency may not conduct or sponsor, and a person is not required to respond to, a collection of information unless it displays a currently valid OMB control number.

1. Criteria

The following are instructions and guidelines on how to prepare the “project summary/abstract” and “full project description” sections of the application. Under the evaluation criteria section, note that each criterion is preceded by the generic evaluation requirement under the ACF Uniform Project Description (UPD).

The Project Description Overview

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

General Expectations and Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix.

Pages should be numbered and a table of contents should be included for easy reference.

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived. The grantee must describe what information was shared with individuals with developmental disabilities and family members and what they suggested individuals with developmental disabilities and family members do with the information.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. Applicants are expected to present a plan that (1) reflects an understanding of the characteristics, needs and services currently available to the targeted population; (2) provides services that directly address the needs of the target population; (3) is evidence-based and grounded in theory and practice; (4) is appropriate and feasible; (5) can be reliably evaluated; and (6) if successfully implemented, can be sustained after Federal funding has ceased. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project, along with a short description of the nature of their effort or contribution.

Evaluation

Provide a narrative addressing how the conduct of the project and the results of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Geographic Location

Describe the precise location of the project and boundaries of the area to be served by the proposed project. Maps or other graphic aids may be attached.

Staff and Position Data

Provide a biographical sketch and job description for each key person appointed. Job descriptions for each vacant key position should be included as well. As new key staff is appointed, biographical sketches will also be required.

Plan for Project Continuance Beyond Grant Support

Provide a plan for securing resources and continuing project activities after Federal assistance has ended.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application.

The non-profit agency can accomplish this by providing: (a) A reference to the applicant organization's listing in the Internal Revenue Service's (IRS) most recent list of tax-exempt organizations described in the IRS Code; (b) a copy of a currently valid IRS tax exemption certificate, (c) a statement from a State taxing body, State attorney general, or other appropriate State official certifying that the applicant organization has a non-profit status and that none of the net earnings accrue to any private shareholders or individuals; (d) a certified copy of the organization's certificate of incorporation or similar document that clearly establishes non-profit status, (e) any of the items immediately above for a State or national parent organization and a statement signed by the parent organization that the applicant organization is a local non-profit affiliate.

Dissemination Plan

Provide a plan for distributing reports and other project outputs to colleagues and the public. Applicants must provide a description of the kind, volume and timing of distribution.

Third-Party Agreements

Provide written and signed agreements between grantees and subgrantees or subcontractors or other cooperating entities. These agreements must detail scope of work to be performed, work schedules, remuneration, and other terms and conditions that structure or define the relationship.

Letters of Support

Provide statements from community, public and commercial leaders that support the project proposed for funding. All submissions should be included in the application OR by application deadline.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

General

Use the following guidelines for preparing the budget and budget justification. Both Federal and non-Federal resources shall be detailed and justified in the budget and narrative justification. “Federal resources” refers only to the ACF grant for which you are applying. “Non-Federal resources” are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those that belong under other categories such as equipment, supplies, construction, etc. Include third party evaluation contracts (if applicable) and contracts with secondary recipient organizations, including delegate agencies and specific project(s) or businesses to be financed by the applicant.

Justification: Demonstrate that all procurement transactions will be conducted in a manner to provide, to the maximum extent practical, open and free competition. Recipients and subrecipients, other than States that are required to use Part 92 procedures, must justify any anticipated procurement action that is expected to be awarded without competition and exceed the simplified acquisition threshold fixed at 41 U.S.C. 403(11) (currently set at $100,000).

Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Program Income

Description: The estimated amount of income, if any, expected to be generated from this project.

Justification: Describe the nature, source and anticipated use of program income in the budget or refer to the pages in the application which contain this information.

Non-Federal Resources

Description: Amounts of non-Federal resources that will be used to support the project as identified in Block 15 of the SF-424.

Justification: The firm commitment of these resources must be documented and submitted with the application so the applicant is given credit in the review process. A detailed budget must be prepared for each funding source.

Total Direct Charges, Total Indirect Charges, Total Project Costs

Evaluation Criteria

The following evaluation criteria appear in weighted descending order. The corresponding score values indicate the relative importance that ACF places on each evaluation criterion; however, applicants need not develop their applications precisely according to the order presented. Application components may be organized such that a reviewer will be able to follow a seamless and logical flow of information (i.e., from a broad overview of the project to more detailed information about how it will be conducted).

In considering how applicants will carry out the responsibilities addressed under this announcement, competing applications for financial assistance will be reviewed and evaluated against the following criteria:

Approach (35 points)

The application will be evaluated on the extent to which it:

(1) Outlines a plan of action pertaining to the scope and detail on how the proposed work will be accomplished for each project. Defines goals and specific measurable objectives for the project (8 points);

(2) Identifies the kind of data to be collected and maintained, and discusses the criteria to be used to evaluate the results and success of the project. Describes how the proposed project will be evaluated to determine the extent to which it has achieved its stated goals and objectives; and whether the methods of evaluation include the use of performance measures that are clearly related to the intended outcome of the project (8 points);

(3) Describes any unusual features of the project, such as design or technological innovation, reductions in cost or time, or extraordinary social and community involvement (5 points);

(4) Provides quantitative monthly or quarterly projections of the accomplishments to be achieved for each function or activity, in such terms as the number of people to be served and the number of activities accomplished. When accomplishments cannot be quantified, activities should be listed in chronological order to show the schedule of accomplishments and their target dates (4 points);

(5) Describes the products to be developed during the implementation of the proposed project. These can include questionnaires, interview guides, data collection instruments, software, Internet applications, reports, outcomes and evaluation results. Also present a dissemination plan for conveying the information (4 points);

(6) Cites factors which might accelerate or decelerate the work and provide reasons for taking this approach as opposed to others (3 points); and

(7) Lists each organization, operator, consultant, or other key individual who will work on the project along with a short description of the nature of their effort and contribution (3 points).

Objectives and Need for Assistance (25 points)

The application will be evaluated on the extent to which it:

(1) Demonstrates the need for the assistance and states the principal and subordinate objectives for the project (10 points);

(2) Pinpoints any relevant physical, economic, social, financial, institutional, or other problems requiring a solution (5 points);

(3) Provides supporting documentation or other testimonies from concerned interests other than the applicant (5 points);

(4) Provides any relevant data based on planning studies (4 points); and

(5) Provides maps and other graphic aids (1 point).

Results or Benefits Expected (20 points)

The application will be evaluated on the extent to which it:

(1) Clearly describes project benefits and results as they relate to the objectives of the project (10 points); and

(2) Provides information as to the extent to which the project will build on current theory, research, evaluation, and best practices to contribute to increased knowledge of understanding the problems, issues, or effective strategies and practices in family support (10 points).

Organizational Profiles (13 points)

The application will be evaluated on the extent to which it:

(1) Identifies the background of the project director/principal investigator and key project staff (including name, address, training, educational background, and other qualifying experience) and the experience of the organization that demonstrates its ability to effectively and efficiently administer this project; (4 points);

(2) Provides a brief background description of how the applicant organization is organized, the types and quantity of services it provides, and the research and management capabilities it possesses (4 points);

(3) Describes the competence of the project team and its demonstrated ability to produce a final product that is readily comprehensible and usable (3 points); and

(4) Provides an organization chart showing the relationship of the project to the current organization (2 points).

Budget and Budget Justification (7 points)

The application will be evaluated on the extent to which it:

(1) Discusses and justifies the costs of the proposed project which are reasonable and programmatically justified in view of the activities to be conducted and the anticipated results and benefits (3 points);

(2) Describes the fiscal control and accounting procedures that will be used to ensure prudent use, proper disbursement, and accurate accounting of funds received under this program announcement (2 points); and

(3) Includes a fully explained non-Federal share budget and its source(s) (2 points).

Note: Maximum awards to States will be $100,000. Maximum awards to Territories will be $50,000. Therefore, application request levels must not exceed the ceiling amount of $100,000 in Federal funds for a State entity and $50,000 in Federal funds for a Territorial entity.

Additional Points (5 points)

This year, five (5) additional points will be added to the total score for an application for any project that includes partnership and collaboration with one or more of the 140 Empowerment Zones/Enterprise Communities. To receive the additional five points, the application must provide a clear outline for the collaboration and a discussion of how the involvement of the EZ/EC is related to the objectives and the activities of the project. For further information on Empowerment Zones and Enterprise Communities, please visit the ACF Office of Community Service's Web site at http://www.acf.hhs.gov/programs/ocs/ez-ec.

2. Review and Selection Process

No grant award will be made under this announcement on the basis of an incomplete application.

A. Selection Process

Applications under this Program Announcement that are received by the deadline date will be competitively reviewed and scored. Experts in the field, generally persons from outside the Federal Government, will use the evaluation criteria listed previously in the evaluation section of the Program Announcement to review and score the applications. The results of this review are a primary factor in making funding decisions.

ADD reserves the option of discussing applications with, or referring them to, other Federal or non-Federal funding sources when this is determined to be in the best interest of the Federal Government or the applicant.

In making Family Support Initiative decisions for 2005 grant awards, ADD will consider whether applications focus on or feature the following aspects/activities in their project design to the extent appropriate:

• A substantially innovative strategy with the potential to improve theory or practice in the field of human services;

• A model practice or set of procedures that holds the potential for replication by organizations administering or delivering human services;

• A substantial involvement of volunteers, the private sector (either financial or programmatic), faith-based and community organizations, and/or national or community foundations;

• A favorable balance between Federal and non-Federal funds available for the proposed project which is likely to result in the potential for high benefit for low Federal investment; and

• A programmatic focus on those most in need of services and assistance, such as unserved and underserved populations, including underserved cultural, ethnic, and racial minority populations.

To the greatest extent possible, efforts will be made to ensure that funding decisions reflect an equitable distribution of assistance among the States and geographical regions of the country, and rural and urban area. In making these decisions, ADD may also take into account their need to avoid unnecessary duplication of effort.

B. Review Process

Using the evaluation criteria described in Section V.1., a panel of at least three reviewers (primarily experts from outside the Federal Government) will evaluate and score the applications. To facilitate this review, applicants should ensure that they address the minimum requirements identified in Section I, Priority Area Description, 3. Minimum Requirements for Project Design.

Reviewers will determine the strengths and weaknesses of each application in terms of the evaluation criteria listed in Section V.1., provide comments, and assign numerical scores. The point value following each criterion indicates the maximum numerical weight that each applicant may received per section in the review process.

Since ACF will be using non-Federal reviewers in the process, applicants have the option of omitting from the application copies (not the original) specific salary rates or amounts for individuals specified in the application budget and Social Security Numbers, if otherwise required for individuals. The copies may include summary salary information.

Approved But Unfunded Applications

Applications that are approved but unfunded may be held over for funding in the next funding cycle, pending the availability of funds, for a period not to exceed one year.

3. Anticipated Announcement and Award Dates

Subject to the availability of funding, ADD intends to award new grants resulting from this Program Announcement during the fourth quarter of Fiscal Year 2005. Up to $350,000 in Federal funds will be available to support these projects this fiscal year.

For the purpose of the awards under this Program Announcement, the successful applicants should expect a project start date of September 1, 2005.

VI. Award Administration Information

1. Award Notices

The successful applicants will be notified through the issuance of a Financial Assistance Award document which sets forth the amount of funds granted, the terms and conditions of the grant, the effective date of the grant, the budget period for which initial support will be given, the non-Federal share to be provided, and the total project period for which support is contemplated. The Financial Assistance Award will be signed by the Grants Officer and transmitted via postal mail.

Organizations whose applications will not be funded will be notified in writing.

2. Administrative and National Policy Requirements

Grantees are subject to the requirements in 45 CFR part 74 (non-governmental) or 45 CFR part 92 (governmental).

Direct Federal grants, sub-award funds, or contracts under this Family Support Initiative 2005 program shall not be used to support inherently religious activities such as religious instruction, worship, or proselytization. Therefore, organizations must take steps to separate, in time or location, their inherently religious activities from the services funded under this Program. Regulations pertaining to the Equal Treatment For Faith-Based Organizations, which includes the prohibition against Federal funding of inherently religious activities, can be found at either 45 CFR part 87.1 or the HHS Web site at http://www.os.dhhs.gov/fbci/waisgate21.pdf.

3. Reporting Requirements

Programmatic Reports: Quarterly.

Financial Reports: Semi-Annually.

Grantees will be required to submit program progress and financial reports (SF-269) throughout the project period. Program progress and financial reports are due 30 days after the reporting period. In addition, final programmatic and financial reports are due 90 days after the close of the project period.

VII. Agency Contacts

Program Office Contact: Joan Rucker, Program Specialist, U.S. Department of Health and Human Services, Administration for Children and Families, Administration on Developmental Disabilities, 370 L'Enfant Promenade, SW., Mail Stop 405-D, Washington, DC 20447. Phone: 202/690-7898. Fax: 202/205-8037. E-mail: jrucker@acf.hhs.gov.

Grants Management Office Contact: Tim Chappelle, Grants Officer, U.S. Department of Health and Human Services, Administration for Children and Families, Administration on Developmental Disabilities, 370 L'Enfant Promenade, SW., 8th Floor, Washington, DC 20447. Phone: 202/401-4855. Fax: 202/401-5468. E-mail: tichappelle@acf.hhs.gov.

VIII. Other Information

All forms are available online at: http://www.acf.hhs.gov/programs/ofs/forms/htm.

Notice: Beginning with FY 2006, the Administration for Children and Families (ACF) will no longer publish grant announcements in the Federal Register. Beginning October 1, 2005, applicants will be able to find a synopsis of all ACF grant opportunities and apply electronically for opportunities via: www.Grants.gov. Applicants will also be able to find the complete text of all ACF grant announcements on the ACF Web site located at: http://www.acf.hhs.gov/grants/index.html.

Please reference Section IV.3 for details about acknowledgement of received applications.

Dated: June 24, 2005.
Patricia A. Morrissey,
Commissioner, Administration on Developmental Disabilities.

[FR Doc. 05-13096 Filed 6-30-05; 8:45 am]

BILLING CODE 4184-01-P